DEPARTMENT OF COMMERCE

International Trade Administration

[A-533-840]

Certain Frozen Warmwater Shrimp From India: Notice of Final Results of Antidumping Duty Changed Circumstances Review

AGENCY: Enforcement and Compliance, International Trade Administration, Department of Commerce.

SUMMARY: On January 22, 2024, the U.S. Department of Commerce (Commerce) published the preliminary results of the changed circumstances review (CCR) of the antidumping duty (AD) order on certain frozen warmwater shrimp from India. For these final results, Commerce continues to find that Elque Ventures Private Limited (Elque Ventures) is the successor-in-interest to Elque & Co.

DATES: Applicable March 11, 2024.

FOR FURTHER INFORMATION CONTACT: Herawe Kebede, AD/CVD Operations, Office IX, Enforcement and Compliance, International Trade Administration, U.S. Department of Commerce, 1401 Constitution Avenue NW, Washington, DC 20230; telephone: (202) 482-4312.

SUPPLEMENTARY INFORMATION:

Background

On January 22, 2024, Commerce published the preliminary results of this expedited CCR, determining that Elque Ventures is the successor-in-interest to Elque & Co. for purposes of determining AD cash deposits and liabilities, and provided all interested parties with an opportunity to comment.¹ No interested party submitted comments on the Preliminary Results. Accordingly, the final results remain unchanged from the Preliminary Results.

¹ See Certain Frozen Warmwater Shrimp from India: Preliminary Results of Antidumping Duty Changed Circumstances Review, 89 FR 3907 (January 22, 2024) (Preliminary Results).

Scope of the Order

The merchandise subject to the order is certain frozen warmwater shrimp. The product is currently classified under the following Harmonized Tariff Schedule of the United States (HTSUS) subheadings: 0306.17.00.03, 0306.17.00.04, 0306.17.00.05, 0306.17.00.06, 0306.17.00.07, 0306.17.00.08, 0306.17.00.09, 0306.17.00.10, 0306.17.00.11, 0306.17.00.12, 0306.17.00.13, 0306.17.00.14, 0306.17.00.15, 0306.17.00.16, 0306.17.00.17, 0306.17.00.18, 0306.17.00.19, 0306.17.00.20, 0306.17.00.21, 0306.17.00.22, 0306.17.00.23, 0306.17.00.24, 0306.17.00.25, 0306.17.00.26, 0306.17.00.27, 0306.17.00.28, 0306.17.00.29, 0306.17.00.40, 0306.17.00.41, 0306.17.00.42, 1605.21.10.30, and 1605.29.10.10. Although the HTSUS subheadings are provided for convenience and customs purposes, the written product description remains dispositive. For a complete description of the scope of the order, see the Preliminary Results.

Final Results of CCR

For the reasons stated in the Preliminary Results, and because we received no comments from interested parties challenging our preliminary finding, Commerce continues to find that Elque Ventures is the successor-in-interest to Elque & Co. As a result of this determination and consistent with our established practice, we find that Elque Ventures should receive the AD cash deposit rate previously assigned to Elque & Co. as part of the Elque Group.² Because there are no changes from the Preliminary Results, there is no decision memorandum accompanying this notice and we are adopting the Preliminary Results as the final results of this CCR.

² The Elque Group previously consisted of Elque & Co., Calcutta Seafoods Pvt. Ltd. (Calcutta Seafoods), and Bay Seafood Pvt. Ltd. (Bay Seafood). We now find that the Elque Group consists of EVPL, Calcutta Seafoods, and Bay Seafood.

Consequently, Commerce will instruct U.S. Customs and Border Protection to suspend liquidation of all shipments of subject merchandise produced and/or exported by Elque Ventures and entered, or withdrawn from warehouse, for consumption on or after the publication date of this notice in the Federal Register at 3.88 percent, which is the current AD cash deposit rate for Elque & Co. as part of the Elque Group.³ This cash deposit requirement shall remain in effect until further notice.

³ See Certain Frozen Warmwater Shrimp from India: Final Results of Antidumping Duty Administrative Review; 2021-2022, 88 FR 60431 (September 1, 2023).

Administrative Protective Order

This notice serves as the only reminder to parties subject to an administrative protective order (APO) of their responsibility concerning the disposition of proprietary information disclosed under APO in accordance with 19 CFR 351.305(a)(3). Timely written notification of return or destruction of APO materials or conversion to judicial protective order is hereby requested. Failure to comply with the regulations and terms of an APO is a sanctionable violation.

Notification to Interested Parties

We are issuing this determination and publishing these final results and notice in accordance with sections 751(b)(1) and 777(i)(1) and (2) of the Tariff Act of 1930, as amended, and 19 CFR 351.216(e), 351.221(b), and 351.221(c)(3).

Dated: March 5, 2024.
Ryan Majerus,
Deputy Assistant Secretary for Policy and Negotiations, performing the non-exclusive functions and duties of the Assistant Secretary for Enforcement and Compliance.

[FR Doc. 2024-05110 Filed 3-8-24; 8:45 am]

BILLING CODE 3510-DS-P